DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. 35).

Agency: United States Patent and Trademark Office (USPTO).

Title: Patents for Humanity Program (formerly Humanitarian Program).

Form Number(s): None.

Agency Approval Number: 0651-0066.

Type of Request: Revision of a currently approved collection.

Burden: 4,010 hours annually.

Number of Respondents: 1,010 responses per year, with an estimated 333 (33%) submitted by small entities.

Avg. Hours per Response: The USPTO estimates that it will take the public approximately four hours to complete the humanitarian program application and one hour to complete the petition to extend the redemption period, depending on the nature of the information. These estimated times include gathering the necessary information, preparing the application or petition and any supplemental supporting materials, and submitting the completed request.

Needs and Uses: The information is used by the public to apply for participation in the Patents for Humanity Program and to provide the USPTO with their contact information, which the USPTO uses to notify applicants that they have been selected for an award. Certificate holders also use the information to petition the USPTO to extend the redemption period of the certificate after it expires.

External judges and the selection committee use the information collected from the humanitarian applications to make recommendations for award recipients, while the USPTO uses the information to award certificates to the selected recipients. The USPTO also uses the information collected from the petitions to grant extensions of the redemption period for the certificate in question.

After the humanitarian program applications are screened for inappropriate material, they will be made publicly available.

Affected Public: Businesses or other for-profits, non-profit institutions, and individuals.

Frequency: On occasion.

Respondent's Obligation: Required to obtain or retain benefits.

OMB Desk Officer: Nicholas A. Fraser, email: Nicholas_A._Fraser@omb.eop.gov.

Once submitted, the request will be publicly available in electronic format through the Information Collection Review page at www.reginfo.gov.

Paper copies can be obtained by:

• Email: InformationCollection@uspto.gov. Include “0651-0066 copy request” in the subject line of the message.

• Mail: Susan K. Fawcett, Records Officer, Office of the Chief Information Officer, United States Patent and Trademark Office, P.O. Box 1450, Alexandria, VA 22313-1450.

Written comments and recommendations for the proposed information collection should be sent on or before August 13, 2012 to Nicholas A. Fraser, OMB Desk Officer, via email to Nicholas_A._Fraser@omb.eop.gov, or by fax to 202-395-5167, marked to the attention of Nicholas A. Fraser.

Dated: July 9, 2012.
Susan K. Fawcett,
Records Officer, USPTO, Office of the Chief Information Officer.

[FR Doc. 2012-17000 Filed 7-11-12; 8:45 am]

BILLING CODE 3510-16-P